NUCLEAR REGULATORY COMMISSION

Agency Information Collection Activities: Proposed Collection; Comment Request

AGENCY: Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. chapter 35).

Information pertaining to the requirement to be submitted:

1. The title of the information collection: “Nuclear Material Events Database (NMED)” for the Collection of Event Report, Response, Analyses, and Follow-up Data on Events Involving the Use of Atomic Energy Act (AEA) Radioactive Byproduct Material.

2. Current OMB approval number: 3150-0178.

3. How often the collection is required: In accordance with compatible regulatory reporting requirements under formal Agreements, the Agreement States are requested to submit event reports to NRC within one month of notification from the State's licensee that an incident or event has occurred, including follow-up investigative report information. In addition, the Agreement States are requested to report events, that may pose a significant health and safety hazard, to the NRC Headquarters Operations Officer within the next working day of notification by an Agreement States licensee.

4. Who is required or asked to report: Current Agreement States and any State receiving Agreement State status in the future.

5. The number of annual respondents: 32 Agreement States.

6. The number of hours needed annually to complete the requirement or request: 1,240 hours (an average of approximately 2.0 hours per each initial and follow-up report) for all existing Agreement States reporting.

7. Abstract: NRC regulations require NRC licensees to report incidents and events involving the use of radioactive byproduct, source and special nuclear material, such as those involving a radiation overexposure, leaking or contaminated sealed source(s), release of excessive contamination of radioactive material, lost or stolen radioactive material, equipment failures, and abandoned well logging sources. Medical events are required to be reported in accordance with 10 CFR 35.3045. Agreement State licensees are also required to report these events and medical events to their individual Agreement State regulatory authorities under compatible Agreement State regulations. NRC is requesting that the Agreement States provide information on the initial notification, response actions, and follow-up investigations on all events involving the use of nuclear materials regulated pursuant to the Atomic Energy Act. The event information should be provided in a uniform electronic format. The consolidation of both NRC and Agreement State incident and event information, involving the use of AEA radioactive materials, into one single national database provides the capability for assessment and trending analysis. A national database provides invaluable information for use in the identification of any facility/site specific or national generic safety concerns that could impact our ability to maintain public health and safety, and security. The identification and review of safety concerns may result in lessons learned, and may also identify generic issues for further study which could result in proposals for changes or revisions to technical or regulatory designs, processes, standards, guidance or requirements.

Submit, by July 1, 2003, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1F21, Rockville, Maryland 20852. OMB clearance requests are available at the NRC worldwide Web site: http://www.nrc.gov/public-involve/doc-comment/omb/index.html. The document will be available on the NRC home page site for 60 days after the signature date of this notice.

Comments and questions about the information collection requirements may be directed to the NRC Clearance Officer, Brenda Jo Shelton, U.S. Nuclear Regulatory Commission, T-6 E6, Washington, DC 20555-0001, by telephone at 301-415-7233, or by Internet electronic mail to infocollects@nrc.gov.

Dated in Rockville, Maryland, this 28th day of April, 2003.
For the U.S. Nuclear Regulatory Commission.
Brenda Jo Shelton,
NRC Clearance Officer, Office of the Chief Information Officer.

[FR Doc. 03-10859 Filed 5-1-03; 8:45 am]

BILLING CODE 7590-01-P